DEPARTMENT OF HOMELAND SECURITY

Coast Guard

33 CFR Part 117

[Docket No. USCG-2015-0873]

Drawbridge Operation Regulation; Snake River, Burbank, WA

AGENCY: Coast Guard, DHS.

ACTION: Notice of deviation from drawbridge regulation.

SUMMARY: The Coast Guard has issued a temporary deviation from the operating schedule that governs the Burlington Northern Santa Fe (BNSF) Railway Bridge across the Snake River, mile 1.5, at Burbank, WA. The deviation is necessary to accommodate maintenance to replace movable rail joints. This deviation allows the bridge to remain in the closed-to-navigation position during maintenance activities.

DATES: This deviation is effective from 7 a.m. on September 28, 2015 until 7 p.m. on October 1, 2015.

ADDRESSES: The docket for this deviation, [USCG-2015-0873] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Thirteenth Coast Guard District; telephone 206-220-7282, email d13-pf-d13bridges@uscg.mil. If you have questions on viewing the docket, call Cheryl Collins, Program Manager, Docket Operations, telephone 202-366-9826.

SUPPLEMENTARY INFORMATION: BNSF has requested that the BNSF Snake River Bridge across the Snake River, mile 1.5, remain in the closed-to-navigation position to vessel traffic to perform railroad bridge maintenance. During this maintenance period, movable rail joints will be replaced at both ends of the lift span. The BNSF Snake River Bridge, mile 1.5, provides 14.1 feet of vertical clearance above Columbia River Datum 0.0 while in the closed position. The normal operating schedule for the BNSF Snake River Bridge 3.08 operates in accordance with 33 CFR 117.1058, and is automated and is normally maintained in the fully open-to-navigation position.

The deviation allows the lift span of the BNSF Snake River Bridge across the Snake River, mile 1.5, to remain in the closed-to-navigation position, and need not open for maritime traffic from 7 a.m. to 3 p.m. on September 28, 2015; from 7 a.m. to 7 p.m. on September 29, 2015; from 7 a.m. to 3 p.m. on September 30, 2015; and from 7 a.m. to 7 p.m. on October 1, 2015. During the active maintenance, BNSF will lower the lift span in closed-to-navigation position. Waterway usage on this part of the Snake River includes vessels ranging from commercial tug and tow vessels to recreational pleasure craft including cabin cruisers and sailing vessels.

Vessels able to pass through the bridge in the closed-to-navigation position may do so at any time. The span will be able to open for maritime emergencies, but any time lost to emergency openings will necessitate a time extension added to the approved dates. No immediate alternate route for vessels to pass is available on this part of the river. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: September 8, 2015.
Steven M. Fischer,
Bridge Administrator, Thirteenth Coast Guard District.

[FR Doc. 2015-23141 Filed 9-14-15; 8:45 am]

BILLING CODE 9110-04-P